DEPARTMENT OF HEALTH AND HUMAN SERVICES

National Institutes of Health

Submission for OMB Review; Comment Request; A Nested Case-Control Study of Lung Cancer and Diesel Exhaust Among Non-Metal Miners

SUMMARY: Under the provisions of section 3507(a)(1)(D) of the Paperwork Reduction Act of 1995, the National Cancer Institute (NCI), the National Institutes of Health (NIH) has submitted to the Office of Management and Budget (OMB) a request for review and approval of the information collection listed below. This proposed information collection was previously published in the Federal Register on April 26, 2000, page 24490, and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title. A Nested Case-Control Study of Lung Cancer and Diesel Exhaust Among Non-Metal Miners. Type of Information Collection Request: NEW. Need and Use of Information Collection: This nested case-control study will examine lung cancer in non-metal miners and its association, if any, with diesel exhaust exposure. The study will involve approximately 160 deaths from lung cancer (the actual number will depend on the number of deaths occurring, but based on national rates we expect 160), and four controls matched to each death, identified from the cohort. Controls will be matched on miners, gender, race/ethnicity and year of birth (within 5 years). Detailed information regarding exposure to diesel exhaust will be obtained from employment records and measurements of diesel exhaust surrogates. Information on potential confounders will be obtained by interview and from environmental measurements. This information will be used in a study by the National Cancer Institute and the National Institute for Occupational Safety and Health to examine risk of mortality from lung cancer for various measures of diesel exhaust exposure, adjusted for smoking and other potential confounders. Frequency of Response: Single-time study. Affected Public: Individuals. Type of Respondents: Workers or next of kin of workers. The annual reporting burden is as follows: Estimated number of Respondents: 227; Estimated Number of Responses per Respondent: One; Average Burden Hours per Response: 1.0; and Estimated Total Annual Burden Hours Requested: 227. There are no Capital Costs, Operating Costs, and/or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management And Budget, Office of Regulatory Affairs, New Executive Office Building, Room 10235, Washington, DC 20503, Attention: Desk Officer for NIH. To request more information on the proposed project or to obtain a copy of the data collection plans and instruments, contact: Dr. Debra Silverman, NCI Project Director, National Cancer Institute, Executive Plaza South, Room 8108, Rockville, Maryland 20892-7240, or call non-toll-free number (301) 435-4716, or FAX your request to (301) 402-1819, or E-mail your request, including your address, to Silvermd@exhange.nih.gov.

Comments Due Date

Comments regarding this information collection are best assured of having their full effect if received on or before January 11, 2001.

Dated: December 1, 2000.
Reesa Nichols,
OMB Project Clearance Liaison.

[FR Doc. 00-31522 Filed 12-11-00; 8:45 am]

BILLING CODE 4140-01-M